DEPARTMENT OF THE INTERIOR

National Park Service

[NPS-WASO-NAGPRA-NPS0037454; PPWOCRADN0-PCU00RP14.R50000]

Notice of Inventory Completion: SUNY, Broome Community College, Binghamton, NY

AGENCY: National Park Service, Interior.

ACTION: Notice.

SUMMARY: In accordance with the Native American Graves Protection and Repatriation Act (NAGPRA), SUNY Broome Community College has completed an inventory of human remains and associated funerary objects and has determined that there is a cultural affiliation between the human remains and associated funerary objects and Indian Tribes or Native Hawaiian organizations in this notice. The human remains and associated funerary objects were removed from the region of Fort Ancient archeological culture (the Upper Ohio River drainage) including parts of the current states of Ohio, Indiana, West Virginia, and Kentucky.

DATES: Repatriation of the human remains and associated funerary objects in this notice may occur on or after March 27, 2024.

ADDRESSES: Harold Koster, Ph.D., SUNY Broome Community College, Professor Emeritus, NAGPRA Coordinator, SUNY Broome Community College, 907 Front Street, Binghamton, NY 13905, telephone (607) 692-4232, email kosterha@sunybroome.edu.

SUPPLEMENTARY INFORMATION: This notice is published as part of the National Park Service's administrative responsibilities under NAGPRA. The determinations in this notice are the sole responsibility of SUNY Broome Community College. The National Park Service is not responsible for the determinations in this notice. Additional information on the determinations in this notice, including the results of consultation, can be found in the inventory or related records held by SUNY Broome Community College.

Description

Human remains representing, at minimum two individuals, were removed from the region of Fort Ancient archeological culture (the Upper Ohio River drainage), including parts of the current states of Ohio, Indiana, West Virginia, and Kentucky.

The collection was donated to the Susquehanna River Archaeological Center (SRAC), Waverly, New York in 2012. The collection was subsequently donated to SUNY Broome Community College by SRAC to be used as a teaching collection. Deb Twigg, the co-founder, and executive director of SRAC, identified the human remains as being a donation collected in the 20th century in the Ohio, Indiana, Kentucky, or West Virginia region. The collection, which was referred to as the Les Rolfe/Libold Collection, was reportedly donated to SRAC by the family of unidentified deceased collectors. No provenience or location information was provided with the collection, nor was any notice included of any human remains present in the collection. The collection was received in 31 buckets with slips of paper marked “Lee” or “Davis.”

The collection includes, at minimum, the human remains of two Ancestors, a juvenile of undetermined sex, aged 7-10 years, based on dentition, and an adult of undetermined sex. No known individuals were identified. There are 13 teeth, one foot, and two hand phalanges associated with the juvenile. There are five teeth, a maxillary fragment, one foot, and three hand phalanges associated with the adult. Identifications were made by professional anthropologists at SUNY Broome Community College and by a professional osteologist at Binghamton University.

The 3,514 associated funerary objects are 949 pottery sherds and assorted ceramics; 964 lithic tools, flakes, cores and assorted stone; three unidentified minerals; 683 freshwater bivalve shells; six shell hoes with drilled holes; five modified bones/shells; 19 turtle carapaces/fragments; one elk cranium; 775 large and small mammal bones; 76 fish bones; nine bird bones; three pieces of charcoal; 10 lots of carbonized maize cobs, seeds, nuts and wood; one nut; one piece of unidentified wood; three pieces of glass; one metal buckle; two broken metal spoons; one large metal nail; one metal spike; and one unidentified metal fragment.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, biological information, historical information, and oral tradition.

Determinations

Pursuant to NAGPRA and its implementing regulations, and after consultation with the appropriate Indian Tribes and Native Hawaiian organizations, SUNY Broome Community College has determined that:

• The human remains described in this notice represent the physical remains of two individuals of Native American ancestry.

• The 3,514 objects described in this notice are reasonably believed to have been placed with or near individual human remains at the time of death or later as part of the death rite or ceremony.

• There is a relationship of shared group identity that can be reasonably traced between the human remains and associated funerary objects described in this notice and the Delaware Nation, Oklahoma; Forest County Potawatomi Community, Wisconsin; Little Traverse Bay Bands of Odawa Indians, Michigan; Match-e-be-nash-she-wish Band of Pottawatomi Indians of Michigan; Miami Tribe of Oklahoma; Prairie Band Potawatomi Nation; Pokagon Band of Potawatomi Indians, Michigan and Indiana; Saginaw Chippewa Indian Tribe of Michigan; and the Shawnee Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 27, 2024. If competing requests for repatriation are received, SUNY Broome Community College must determine the most appropriate requestor prior to repatriation. Requests for joint repatriation of the human remains and associated funerary objects are considered a single request and not competing requests. SUNY Broome Community College is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 16, 2024.
Melanie O'Brien,
Manager, National NAGPRA Program.

[FR Doc. 2024-03798 Filed 2-23-24; 8:45 am]

BILLING CODE 4312-52-P